DEPARTMENT OF HEALTH AND HUMAN SERVICES

National Institutes of Health

National Institute of Neurological Disorders and Stroke; Amended Notice of Meeting

Notice is hereby given of a change in the meeting of the National Institute of Neurological Disorders and Stroke Special Emphasis Panel, November 1, 2021, 09:00 a.m. to November 2, 2021, 06:00 p.m., National Institutes of Health, Neuroscience Center, 6001 Executive Boulevard, Rockville, MD 20852 which was published in the Federal Register on October 13, 2021, FR Doc 2021-22196, 86 FR 56965.

This notice is being amended to change the dates of this meeting from November 1-2, 2021 to November 15-16, 2021. The meeting time remains the same. The meeting is closed to the public.

Dated: October 21, 2021.
Tyeshia M. Roberson-Curtis,
Program Analyst, Office of Federal Advisory Committee Policy.

[FR Doc. 2021-23318 Filed 10-25-21; 8:45 am]

BILLING CODE 4140-01-P